DEPARTMENT OF COMMERCE

National Oceanic and Atmospheric Administration

[I.D. 072602A]

Harbor Porpoise Bycatch Estimates for 2001

AGENCY: National Marine Fisheries Service (NMFS), National Oceanic and Atmospheric Administration (NOAA), Commerce.

ACTION: Notice of availability.

SUMMARY: NMFS announces the availability of harbor porpoise bycatch estimates for January through December, 2001.

ADDRESSES: Send information requests to Protected Resources Division, NMFS, One Blackburn Drive, Gloucester, MA 01930-2298 or to Marine Mammal Conservation Division, NMFS, Office of Protected Resources, 1315 East-West Highway, Silver Spring, MD 20910.

FOR FURTHER INFORMATION CONTACT: Kimberly Thounhurst, Northeast Region, phone: (978) 281-9138, e-mail: Kimberly.Thounhurst@noaa.gov.

SUPPLEMENTARY INFORMATION: In December of 1998, NMFS implemented a plan to reduce the incidental mortality and serious injury of the Gulf of Maine/Bay of Fundy (GOM/BOF) harbor porpoise stock in the Northeast sink gillnet fishery and Mid-Atlantic coastal gillnet fishery to below the Potential Biological Removal (PBR) level for that stock pursuant to the Marine Mammal Protection Act. The Harbor Porpoise Take Reduction Plan contains a combination of management measures including fishery closures and gear modifications. These measures are described in the December 2, 1998, final rule (63 FR 66464) and December 23, 1998, correction notice (63 FR 71041).

The most current estimate of incidental take of harbor porpoise for 2001 by fishery is available. This information is provided pursuant to a requirement of the May 12, 2000, Settlement Agreement in Center for Marine Conservation et al. v. Daley et al.(Civ. No. 1:98CV02029 EGS). The incidental take of GOM/BOF harbor porpoise in U.S. waters during 2001 is estimated to be 80 animals (Coefficient of Variation (CV)=0.71; 95-percent Confidence Interval (CI)=6-204). This estimate is comprised of 51 animals (64-percent; CV=0.97, 95-percent CI=2-166) extrapolated from takes observed during random sampling of the Northeast sink gillnet fishery, 26 animals (32-percent; CV=0.95, 95-percent CI=1-83) extrapolated from takes observed during random sampling of the Mid-Atlantic coastal gillnet fishery, and 3 animals (4-percent) represented in unextrapolated opportunistic data obtained from stranded animals displaying evidence of fishery interactions. An estimate of incidental take of GOM/BOF harbor porpoise in Canadian waters during 2001 is not available at this time.

For 2000, the estimated annual incidental take of harbor porpoise in U.S. waters was 529 animals (CV=0.36, 95-percent CI=267-1049). This estimate is comprised of 507 animals (CV=0.37, 95-percent CI=169-924) from the Northeast sink gillnet fishery, 21 animals (CV=0.76, 95-percent CI=1-53) from the Mid-Atlantic coastal gillnet fishery, and 1 animal from an unknown Mid-Atlantic fishery.

For 1999, the estimated annual incidental take of harbor porpoise in U.S. waters was 323 animals (CV=0.25, 95-percent CI=211-554), comprised of 270 animals (CV=-0.28, 95-percent CI=78-364) from the Northeast sink gillnet fishery and 53 animals (CV=0.49, 95-percent CI=3-98) from the Mid-Atlantic coastal gillnet fishery.

1999, 2000, and 2001 represent the years since implementation of the Harbor Porpoise Take Reduction Plan and fishery management measures intended to reduce harbor porpoise bycatch. From 1994 through 1998, the mean annual mortality of harbor porpoise was 1,521 animals (CV=0.10), comprised of 1163 animals (CV=0.11) from the Northeast sink gillnet fishery and 358 animals (CV=0.20) from the Mid-Atlantic coastal gillnet fishery.

Further detail on the 2001 GOM/BOF harbor porpoise bycatch analysis is available from NMFS (see ADDRESSES or FOR FURTHER INFORMATION CONTACT).

Dated: August 1, 2002.
Wanda L. Cain,
Acting Director, Office of Protected Resources, National Marine Fisheries Service.

[FR Doc. 02-19976 Filed 8-6-02; 8:45 am]

BILLING CODE 3510-22-S